DEPARTMENT OF ENERGY

Federal Energy Regulatory Commission

Combined Notice of Filings #1

December 28, 2007.

Take notice that the Commission received the following electric corporate filings:

Docket Numbers: EC08-26-000; EL08-21-000; EG08-26-000.

Applicants: NorthWestern Corporation, Colstrip Lease Holdings, LLC

Description: NorthWestern Corp and Colstrip Lease Holdings, LLC submit an application for authorization to transfer interest in 740 MW Colstrip Generating Unit.

Filed Date: 12/19/2007.

Accession Number: 20071221-0197.

Comment Date: 5 p.m. Eastern Time on Wednesday, January 9, 2008.

Docket Numbers: EC08-27-000.

Applicants: Iberdrola Renovables, S.A., PPM Energy, Inc.; PPM Wind Energy LLC, Aeolus Wind Power IV LLC, Atlantic Renewable Energy Corporation; Casselman Windpower, LLC.

Description: Joint application of Iberdrola Renovables, SA et al. for indirect disposition of jurisdictional facilities owned by Casselman Windpower LLC .

Filed Date: 12/21/2007.

Accession Number: 20071228-0119.

Comment Date: 5 p.m. Eastern Time on Friday, January 11, 2008.

Take notice that the Commission received the following exempt wholesale generator filings:

Docket Numbers: EG08-27-000.

Applicants: Rail Splitter Wind Farm, LLC.

Description: Notice of Self-Certification of Exempt Wholesale Generator Status of Rail Splitter Wind Farm, LLC.

Filed Date: 12/21/2007.

Accession Number: 20071221-5046.

Comment Date: 5 p.m. Eastern Time on Friday, January 11, 2008.

Take notice that the Commission received the following electric rate filings:

Docket Numbers: ER06-615-016; ER08-367-000.

Applicants: California Independent System Operator Corporation

Description: California Independent System Operator Corp's filing of Fourth Replacement Version of FERC Electric Tariff.

Filed Date: 12/21/2007.

Accession Number: 20071227-0159.

Comment Date: 5 p.m. Eastern Time on Friday, January 11, 2008.

Docket Numbers: ER07-1192-000.

Applicants: Wisconsin Electric Power Company.

Description: Paper Hearing Reply Comments of Wisconsin Public Power Inc.

Filed Date: 12/20/2007.

Accession Number: 20071220-5092.

Comment Date: 5 p.m. Eastern Time on Thursday, January 10, 2008.

Docket Numbers: ER08-352-000.

Applicants: The Midwest Independent Transmission System Operator, Inc.

Description: The Midwest Independent Transmission System Operator, Inc submits an unexecuted Amended and Restated Large Generator and Interconnection Agreement with Tatanka Wind Power, LLC.

Filed Date: 12/21/2007.

Accession Number: 20071227-0040.

Comment Date: 5 p.m. Eastern Time on Friday, January 11, 2008.

Docket Numbers: ER08-353-000.

Applicants: Southern California Edison Company.

Description: Southern California Edison submits Substitute Eighth Revised Sheet No. 67 to FERC Electric Tariff, Second Revised Volume No. 6 effective 1/1/08.

Filed Date: 12/20/2007.

Accession Number: 20071227-0140.

Comment Date: 5 p.m. Eastern Time on Thursday, January 10, 2008.

Docket Numbers: ER08-354-000.

Applicants: Wells Fargo Energy Markets, LLC.

Description: Application of Wells Fargo Energy Markets, LLC for Market-Based Rate Tariff and Granting Certain Waivers and Blanket Approvals to be effective 2/1/08.

Filed Date: 12/20/2007.

Accession Number: 20071227-0139.

Comment Date: 5 p.m. Eastern Time on Thursday, January 10, 2008.

Docket Numbers: ER08-355-000.

Applicants: MidAmerican Energy Company.

Description: MidAmerican Energy Co. submits an amended Network Integration Transmission Service Agreement et al. with City of Carlisle, IA.

Filed Date: 12/20/2007.

Accession Number: 20071227-0138.

Comment Date: 5 p.m. Eastern Time on Thursday, January 10, 2008.

Docket Numbers: ER08-356-000.

Applicants: Dynegy Power Marketing, Inc.

Description: Dynegy Power Marketing, Inc requests waiver of section 3(b) of its market-based rate tariff.

Filed Date: 12/21/2007.

Accession Number: 20071227-0137.

Comment Date: 5 p.m. Eastern Time on Friday, January 11, 2008.

Docket Numbers: ER08-357-000.

Applicants: Virginia Electric and Power Company.

Description: Virginia Electric and Power Co. dba Dominion Virginia Power submits a Notice of Cancellation of the Enfield Service Agreement.

Filed Date: 12/20/2007.

Accession Number: 20071227-0136.

Comment Date: 5 p.m. Eastern Time on Thursday, January 10, 2008.

Docket Numbers: ER08-358-000.

Applicants: Commonwealth Edison Company.

Description: Commonwealth Edison Co. and Commonwealth Edison Co. of Indiana, Inc. submit a filing to revise Attachment H-13 of the PJM Interconnection, LLC OATT.

Filed Date: 12/21/2007.

Accession Number: 20071227-0135.

Comment Date: 5 p.m. Eastern Time on Friday, January 11, 2008.

Docket Numbers: ER08-359-000.

Applicants: Carolina Power & Light Company.

Description: Carolina Power & Light Co. dba Progress Energy Carolinas, Inc. submit a cost-based power supply and coordination agreement with the Town of Winterville, NC, to be effective 3/1/08.

Filed Date: 12/21/2007.

Accession Number: 20071227-0147.

Comment Date: 5 p.m. Eastern Time on Friday, January 11, 2008.

Docket Numbers: ER08-360-000.

Applicants: Duke Energy Carolinas, LLC.

Description: Duke Energy Carolinas, LLC submits revisions to its Rate Schedule 10-A.

Filed Date: 12/21/2007.

Accession Number: 20071227-0146.

Comment Date: 5 p.m. Eastern Time on Friday, January 11, 2008.

Docket Numbers: ER08-361-000.

Applicants: PJM Interconnection, LLC.

Description: PJM Interconnection LLC submits an executed interconnection service agreement with Grand Ridge Energy, LLC and Commonwealth Edison Co.

Filed Date: 12/21/2007.

Accession Number: 20071227-0145.

Comment Date: 5 p.m. Eastern Time on Friday, January 11, 2008.

Docket Numbers: ER08-362-000.

Applicants: Southern Company Services, Inc.

Description: Southern Company Services, Inc. on behalf of Southern Companies submits a Cancellation of Transmission Service Agreements.

Filed Date: 12/21/2007.

Accession Number: 20071227-0144.

Comment Date: 5 p.m. Eastern Time on Friday, January 11, 2008.

Docket Numbers: ER08-364-000.

Applicants: APX, Inc.

Description: APX, Inc. submits a notice of succession, notifying the Commission that Automated Power Exchange, Inc.'s name was changes to APX, Inc.

Filed Date: 12/21/2007.

Accession Number: 20071227-0202.

Comment Date: 5 p.m. Eastern Time on Friday, January 11, 2008.

Docket Numbers: ER08-365-000.

Applicants: APX, Inc.

Description: APX, Inc. submits revisions to its FERC Electric Tariff, First Revised Volume 10.

Filed Date: 12/21/2007.

Accession Number: 20071227-0203.

Comment Date: 5 p.m. Eastern Time on Friday, January 11, 2008.

Docket Numbers: ER08-366-000.

Applicants: American Electric Power System Corporation.

Description: American Electric Power Service Corp. on behalf of AEP Texas Central Co. submit an amendment to the 8/28/07 generation interconnection agreement with Texas Gulf Wind LLC.

Filed Date: 12/20/2007.

Accession Number: 20071227-0143.

Comment Date: 5 p.m. Eastern Time on Thursday, January 10, 2008.

Docket Numbers: ER08-368-000.

Applicants: Desert Power, LP.

Description: Desert Power, LP submits a Notice of Cancellation of its market-based rate tariff and requests waiver of the Commission's 60-day prior notice requirement.

Filed Date: 12/20/2007.

Accession Number: 20071227-0142.

Comment Date: 5 p.m. Eastern Time on Thursday, January 10, 2008.

Docket Numbers: ER08-369-000.

Applicants: MATL LLP.

Description: MATL LLP submits an executed Coordinated Operating Agreement with Montana Alberta Tie Ltd.

Filed Date: 12/21/2007.

Accession Number: 20071227-0148.

Comment Date: 5 p.m. Eastern Time on Friday, January 11, 2008.

Docket Numbers: ER08-370-000.

Applicants: Midwest Independent Transmission System Operator, Inc.

Description: Midwest ISO and Missouri River Energy Services submits proposed revisions to the Attachment O transmission rate formula under the Midwest ISO's Open Access Transmission and Energy Markets Tariff.

Filed Date: 12/20/2007.

Accession Number: 20071227-0141.

Comment Date: 5 p.m. Eastern Time on Thursday, January 10, 2008.

Docket Numbers: ER08-372-000.

Applicants: MATL LLP.

Description: MATL LLP submits First Revised Sheet 6 et al. to FERC Electric Tariff, Second Revised Volume No. 1 to be effective 1/31/08.

Filed Date: 12/21/2007.

Accession Number: 20071227-0155.

Comment Date: 5 p.m. Eastern Time on Friday, January 11, 2008.

Docket Numbers: ER08-373-000.

Applicants: MATL LLP.

Description: MATL LLP submits a Transmission Line Interconnection Agreement with NorthWestern Corp., to be effective 1/31/08.

Filed Date: 12/21/2007.

Accession Number: 20071227-0156.

Comment Date: 5 p.m. Eastern Time on Friday, January 11, 2008.

Docket Numbers: ER08-374-000.

Applicants: Atlantic Path 15, LLC.

Description: Atlantic Path 15, LLC submits a proposed decrease in the rates charged for service over the transmission line upgrade and related substation upgrades to the Path 15 corridor.

Filed Date: 12/21/2007.

Accession Number: 20071227-0154.

Comment Date: 5 p.m. Eastern Time on Friday, January 11, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-21 Filed 1-4-08; 8:45 am]

BILLING CODE 6717-01-P